DEPARTMENT OF LABOR

Employment and Training Administration

[TA-W-38,158]

Cookson Semiconductor Packaging Material, a Division of Alpha-Fry Technologies, Warwick, RI; Notice of Termination of Investigation

Pursuant to section 21 of the Trade Act of 1974, an investigation was initiated on October 2, 2000, in response to a petition filed on behalf of workers at Cookson Semiconductor Packaging Material, a division of Alpha-Fry Technologies, Warwick, Rhode Island.

The three workers submitting the petition have requested that the petition be withdrawn. Consequently, further investigation in this case would serve no purpose, and the investigation has been terminated.

Signed in Washington, DC this 7th day of November, 2000.
Linda G. Poole,
Certifying Officer, Division of Trade Adjustment Assistance.

[FR Doc. 00-30619 Filed 11-30-00; 8:45 am]

BILLING CODE 4510-30-M